DEPARTMENT OF COMMERCE

International Trade Administration

[A-588-815]

Gray Portland Cement and Clinker from Japan; Amended Final Results Pursuant to Court Decision

AGENCY: Import Administration, International Trade Administration, Department of Commerce.

ACTION: Amended Final Results Pursuant to Court Decision.

SUMMARY: On April 29, 1998, the United States Court of International Trade (“CIT”) affirmed the determination made by the Department of Commerce (“the Department”) pursuant to a remand of the final results of the first antidumping duty administrative review of Gray Portland Cement and Clinker from Japan. Ad Hoc Committee of Southern California Producers of Gray Portland Cement v. United States, Slip Op. 98-57 (CIT, April 29, 1998). In the remand determination, the Department (1) included all freight-out and insurance expenses in the computation of total cost when calculating profit; (2) made no deduction to fair market value (FMV) for pre-sale movement expenses when making purchase price (PP) comparisons, and counted the expenses as indirect selling expenses when making exporter sales price (ESP) comparisons; (3) adjusted U.S. price by correcting the deduction for relevant freight expenses; and (4) corrected the per-unit service station expenses included in calculating cost of production (COP). As this decision is now final and conclusive, we are amending the final results.

EFFECTIVE DATE: April 14, 2000.

FOR FURTHER INFORMATION CONTACT: Nithya Nagarajan, Import Administration, International Trade Administration, U.S. Department of Commerce, 14th Street and Constitution Avenue, NW, Washington, DC. 20230; telephone: (202) 482-5253.

SUPPLEMENTARY INFORMATION:

Background

On September 20, 1993, the Department published the final results of the first administrative review of the antidumping duty order on Gray Portland Cement and Clinker from Japan (58 FR 48826). On October 18, 1993, the Department published its amended final results (58 FR 53705). The review covered one manufacturer/exporter, Onoda Cement Co., Ltd. (“Onoda”), of the subject merchandise for the period October 31, 1990 through April 30, 1992. The petitioner in this case, the Ad Hoc Committee of Southern California Producers of Gray Portland Cement, and Onoda subsequently appealed the Department's determination before the CIT on ten issues. The CIT issued a remand, at Commerce's request, with respect to four issues and affirmed all other issues. In particular, the Court remanded the case to the Department to (1) reconsider the treatment of freight-out and inland insurance expenses incurred for transportation of the subject merchandise to unrelated customers in the United States; (2) determine the extent to which pre-sale home market transportation costs should be deducted from FMV; (3) calculate the correct amount of freight expenses incurred for shipping to unrelated U.S. customers; and (4) re-open the record to obtain data and recalculate the per-unit amount of service station expenses to be included in calculating COP. The Ad Hoc Committee of Southern California Producers of Gray Portland Cement v. United States, 19 CIT 1398, 914 F. Supp. 525 (1995) (“Ad Hoc I”).

The Department filed its redetermination on February 22, 1996. The Department, for purposes of the remand, (1) included all freight-out and insurance expenses in the computation of total cost when calculating profit; (2) made no deduction to FMV for pre-sale movement expenses when making PP comparisons, and counted the expenses as indirect selling expenses when making ESP comparisons; (3) did not reduce freight-out costs before deducting them from U.S. price; and (4) corrected the per-unit service station expenses included in calculating COP. On April 29, 1998, the CIT affirmed the Department's remand determination. Ad Hoc Committee of Southern California Producers of Gray Portland Cement v. United States, Slip Op. 98-57 (CIT, April 29, 1998). No parties have appealed this decision.

As a result of the remand determination, the final dumping margin for the period October 31, 1990 through April 30, 1992 is as follows:

Manufacturer | Margin (Percent)
Onoda Cement Co., Ltd | 33.95

The Department will issue appraisement instructions directly to the U.S. Customs Service. The final remand determination of this review shall be the basis for the assessment of antidumping duties on entries of merchandise covered by the final remand determination of this review, except as noted below.

Further, we note that the International Trade Commission (ITC), on remand from the CIT in Mitsubishi Materials Corp. v. United States, 820 F. Supp. 608 (CIT 1993), determined that imports of Gray Portland Cement and Clinker from Japan threaten material injury to the U.S. industry (ITC publication 2657, aff'd, 918 F. Supp 422, 1996). Therefore, the Department shall instruct the U.S. Customs Service to terminate suspension of liquidation and refund any cash deposit and release any bond or other security for all remaining unliquidated shipments of Gray Portland Cement and Clinker from Japan, including those produced by Onoda, entered or withdrawn from warehouse, for consumption prior to May 8, 1991, the date of publication of the ITC's original final determination in the Federal Register.

Dated: April 7, 2000.
Joseph A. Spetrini,
Acting Assistant Secretary for Import Administration.

[FR Doc. 00-9375 Filed 4-13-00; 8:45 am]

BILLING CODE 3510-DS-P